DEPARTMENT OF HEALTH AND HUMAN SERVICES

Meeting of the National Vaccine Advisory Committee

AGENCY: National Vaccine Program Office, Office of the Assistant Secretary for Health, Office of the Secretary, Department of Health and Human Services.

ACTION: Notice.

SUMMARY: As stipulated by the Federal Advisory Committee Act, the Department of Health and Human Services (HHS) is hereby giving notice that the National Vaccine Advisory Committee (NVAC) will hold a meeting February 2-3, 2016. The meeting is open to the public. However, pre-registration is required for both public attendance and public comment. Individuals who wish to attend the meeting and/or participate in the public comment session should register at http://www.hhs.gov/nvpo/nvac/meetings/upcomingmeetings/. Participants may also register by emailing nvpo@hhs.gov or by calling 202-690-5566 and providing their name, organization, and email address.

DATES: The meeting will be held on February 2-3, 2016. The meeting times and agenda will be posted on the NVAC Web site at http://www.hhs.gov/nvpo/nvac/meetings/upcomingmeetings/ as soon as they become available.

ADDRESSES: U.S. Department of Health and Human Services, Hubert H. Humphrey Building, the Great Hall, 200 Independence Avenue SW., Washington, DC 20201.

The meeting can also be accessed through a live webcast the day of the meeting. For more information, visit http://www.hhs.gov/nvpo/nvac/meetings/upcomingmeetings/index.html.

FOR FURTHER INFORMATION CONTACT: National Vaccine Program Office, U.S. Department of Health and Human Services, Room 715-H, Hubert H. Humphrey Building, 200 Independence Avenue SW., Washington, DC 20201. Phone: (202) 690-5566; email: nvpo@hhs.gov.

SUPPLEMENTARY INFORMATION: Pursuant to Section 2101 of the Public Health Service Act (42 U.S.C. 300aa-1), the Secretary of Health and Human Services was mandated to establish the National Vaccine Program to achieve optimal prevention of human infectious diseases through immunization and to achieve optimal prevention against adverse reactions to vaccines. The NVAC was established to provide advice and make recommendations to the Director of the National Vaccine Program on matters related to the Program's responsibilities. The Assistant Secretary for Health serves as Director of the National Vaccine Program.

The February 2016 NVAC meeting agenda will include discussions on mechanisms to support vaccine development and innovation, vaccine pricing and purchasing behaviors in the private vaccine market, and quality measures for adult immunizations. The NVAC will hear an update on progress towards a mid-course review of the 2010 National Vaccine Plan, as well as an update from the NVAC Maternal Immunizations Working Group. Committee members also will be provided information on ongoing Departmental efforts to support the pre-departure vaccination of U.S.-bound refugees. Please note that agenda items are subject to change as priorities dictate. Information on the final meeting agenda will be posted prior to the meeting on the NVAC Web site: http://www.hhs.gov/nvpo/nvac.

Public attendance at the meeting is limited to the available space. Individuals who plan to attend in person and need special assistance, such as sign language interpretation or other reasonable accommodations, should notify the National Vaccine Program Office at the address/phone listed above at least one week prior to the meeting. For those unable to attend in person, a live webcast will be available. More information on registration and accessing the webcast can be found at http://www.hhs.gov/nvpo/nvac/meetings/upcomingmeetings/.

Members of the public will have the opportunity to provide comments at the NVAC meeting during the public comment periods designated on the agenda. Public comments made during the meeting will be limited to three minutes per person to ensure time is allotted for all those wishing to speak. Individuals are also welcome to submit their written comments. Written comments should not exceed three pages in length. It is requested that individuals submitting written comments email their comments to the National Vaccine Program Office (nvpo@hhs.gov) at least five business days prior to the meeting.

Dated: January 5, 2016.
Bruce Gellin,
Executive Secretary, National Vaccine Advisory Committee, Deputy Assistant Secretary for Health, Director, National Vaccine Program Office.

[FR Doc. 2016-00319 Filed 1-8-16; 8:45 am]

BILLING CODE 4150-44-P